DEPARTMENT OF ENERGY

Federal Energy Regulatory Commission

[Docket No. CP15-521-000]

Notice of Availability of the Draft Environmental Impact Statement for the Proposed Gulf LNG Liquefaction Project: Gulf LNG Liquefaction Company, LLC; Gulf LNG Energy, LLC; Gulf LNG Pipeline, LLC

The staff of the Federal Energy Regulatory Commission (FERC or Commission) has prepared a draft environmental impact statement (EIS) for the Gulf LNG Liquefaction Project, proposed by Gulf LNG Liquefaction Company, LLC; Gulf LNG Energy, LLC; and Gulf LNG Pipeline, LLC (GLP) (collectively referred to as Gulf LNG) in the above-referenced docket. Gulf LNG requests authorization pursuant to sections 3(a) and 7 of the Natural Gas Act (NGA) to construct and operate onshore liquefied natural gas (LNG) liquefaction and associated facilities to allow export of LNG, and to construct, own, operate, and maintain new interconnection and metering facilities for the existing Gulf LNG Pipeline in Jackson County, Mississippi. The proposed actions are referred to as the Gulf LNG Liquefaction Project (Project) and consist of the Gulf LNG Terminal Expansion (Terminal Expansion) and the GLP Pipeline Modifications.

The draft EIS assesses the potential environmental effects of construction and operation of the Gulf LNG Liquefaction Project in accordance with the requirements of the National Environmental Policy Act (NEPA). The FERC staff concludes that approval of the proposed Project, with the mitigation measures recommended in the EIS, would have some adverse environmental impacts; however, these impacts would be avoided or reduced to less-than-significant levels.

U.S. Army Corps of Engineers; U.S. Coast Guard; U.S. Department of Energy, Office of Fossil Energy; the U.S. Department of Transportation's Pipeline and Hazardous Materials Safety Administration; U.S. Fish and Wildlife Service; National Oceanic and Atmospheric Administration, National Marine Fisheries Service; and U.S. Environmental Protection Agency participated as cooperating agencies in the preparation of the EIS. In addition, the Mississippi Office of the Secretary of State has jurisdiction over the wetland mitigation property and, therefore, is assisting us as a cooperating agency. Cooperating agencies have jurisdiction by law or special expertise with respect to resources potentially affected by the proposal and participate in the NEPA analysis. Although the cooperating agencies provided input to the conclusions and recommendations presented in the draft EIS, the agencies will present their own conclusions and recommendations in their respective Records of Decision for the Project.

The draft EIS addresses the potential environmental effects of the construction and operation of the following proposed facilities:

• Feed gas pre-treatment facilities, including a mercury removal system, an acid gas removal system (to remove carbon dioxide and hydrogen sulfide), a molecular sieve dehydration system (to remove water), and a heavy hydrocarbon removal system (to remove natural gas liquids);

• two separate propane precooled mixed refrigerant liquefaction trains that liquefy natural gas, each with a nominal liquefaction capacity of 5 million metric tons per year (mtpy) and a maximum capacity of more than 5.4 mtpy of LNG;

• liquefaction facility utilities and associated systems, including two gas-fired turbine compressors per liquefaction train;

• storage facilities for condensate, ammonia and refrigerants;

• utilities systems, including instrument, plant air, and nitrogen;

• a truck loading/unloading facility to unload refrigerants and to load condensate produced during the gas liquefaction process;

• four flares (including one spare flare) in a single flare tower to incinerate excess gases associated with maintenance, startup/shutdown, and upset conditions during an emergency;

• two supply docks (North and South Supply Docks) designed to receive barges transporting materials and large equipment during construction, with one dock retained for use during operation;

• new in-tank LNG loading pumps in the existing LNG storage tanks to transfer LNG through the existing transfer lines to LNG marine carriers;

• new spill impoundment systems designed to contain LNG, refrigerants and other hazardous fluids;

• minor changes to piping at the existing berthing facility to permit bi-directional flow;

• a new concrete storm surge protection wall that connects to the existing storm surge protection wall near the southwest corner of the Terminal Expansion site and extends along the southern border of the Terminal Expansion site;

• a new earthen berm extending from the northeastern to the southeastern boundaries of the Terminal Expansion site, between the Terminal Expansion and the Bayou Casotte Dredged Material Management Site, and connecting to the new segments of the storm surge protection wall;

• six off-site construction support areas for use as staging and laydown areas, contractor yards, and parking;

• modifications to the existing metering stations at the existing Gulfstream Pipeline Company and Destin Pipeline Company interconnection facilities; ¹ and

¹ Additionally, Transcontinental Gas Pipe Line Company, LLC (Transco) would construct modifications to the existing Transco/Florida Gas Transmission Company, LLC Interconnect. FERC would review this project under Transco's blanket certificate.

• modifications to the existing Gulf LNG Pipeline at the existing Terminal to provide a connection to the inlet of the LNG liquefaction pre-treatment facilities.

The Commission mailed a copy of the Notice of Availability to federal, state, and local government representatives and agencies; elected officials; environmental and public interest groups; Native American tribes; potentially affected landowners and other interested individuals and groups; and newspapers and libraries in the Project area. The draft EIS is only available in electronic format. It may be viewed and downloaded from the FERC's website (www.ferc.gov), on the Environmental Documents page (https://www.ferc.gov/industries/gas/enviro/eis.asp). In addition, the draft EIS may be accessed by using the eLibrary link on the FERC's website. Click on the eLibrary link (https://www.ferc.gov/docs-filing/elibrary.asp), click on General Search, and enter the docket number in the “Docket Number” field, excluding the last three digits (i.e. CP15-521-000). Be sure you have selected an appropriate date range. For assistance, please contact FERC Online Support at FercOnlineSupport@ferc.gov or toll free at (866) 208-3676, or for TTY, contact (202) 502-8659.

Any person wishing to comment on the draft EIS may do so. Your comments should focus on draft EIS's disclosure and discussion of potential environmental effects, reasonable alternatives, and measures to avoid or lessen environmental impacts. To ensure consideration of your comments on the proposal in the final EIS, it is important that the Commission receive your comments on or before 5:00 p.m. Eastern Time on January 7, 2019.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP15-521-000) with your submission: Kimberly D. Bose, Secretary, Federal Energy Regulatory Commission, 888 First Street NE, Room 1A, Washington, DC 20426.

(4) In lieu of sending written or electronic comments, the Commission invites you to attend a public comment session its staff will conduct in the Project area to receive comments on the draft EIS, scheduled as follows:

Date and time | Location
Tuesday, December 18, 2018, 4:00-8:00 p.m. local time | Pelican Landing Convention Center, 6217 Mississippi Highway 613, Moss Point, MS 39563, 228-474-1406.

The primary goal of this comment session is to have you identify the specific environmental issues and concerns with the draft EIS. Individual verbal comments will be taken on a one-on-one basis with a court reporter. This format is designed to receive the maximum amount of verbal comments, in a convenient way during the timeframe allotted.

The comment session is scheduled from 4:00 p.m. to 8:00 p.m. local time. You may arrive at any time after 4:00 p.m. There will not be a formal presentation by Commission staff when the session opens. If you wish to speak, the Commission staff will hand out numbers in the order of your arrival. Comments will be taken until 8:00 p.m. However, if no additional numbers have been handed out and all individuals who wish to provide comments have had an opportunity to do so, staff may conclude the session at 7:30 p.m. Please see appendix 1 for additional information on the session format and conduct.²

² The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to the last page of this notice.

Your verbal comments will be recorded by the court reporter (with FERC staff or representative present) and become part of the public record for this proceeding. Transcripts will be publicly available on FERC's eLibrary system (see below for instructions on using eLibrary). If a significant number of people are interested in providing verbal comments in the one-on-one settings, a time limit of 5 minutes may be implemented for each commentor.

It is important to note that verbal comments hold the same weight as written or electronically submitted comments. Although there will not be a formal presentation, Commission staff will be available throughout the comment session to answer your questions about the environmental review process.

Any person seeking to become a party to the proceeding must file a motion to intervene pursuant to Rule 214 of the Commission's Rules of Practice and Procedures (18 CFR part 385.214). Motions to intervene are more fully described at http://www.ferc.gov/resources/guides/how-to/intervene.asp. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: November 15, 2018.
Kimberly D. Bose,
Secretary.

[FR Doc. 2018-25473 Filed 11-21-18; 8:45 am]

BILLING CODE 6717-01-P